DEPARTMENT OF THE INTERIOR

U.S. Geological Survey

[GX12GH009980000]

Information Collection Extension

AGENCY: U.S. Geological Survey, Interior.

ACTION: Notice of an extension of an information collection (1028-0090).

SUMMARY: We (the U.S. Geological Survey) will ask the Office of Management and Budget (OMB) to approve the information collection (IC) described below. To comply with the Paperwork Reduction Act of 1995 (PRA) and as part of our continuing efforts to reduce paperwork and respondent burden, we invite the general public and other Federal agencies to take this opportunity to comment on this IC. This collection is scheduled to expire on May 31, 2013.

DATES: You must submit comments on or before May 7, 2013.

ADDRESSES: You may submit comments on this information collection to the Information Collection Clearance Officer, U.S. Geological Survey, 12201 Sunrise Valley Drive MS 807, Reston, VA 20192 (mail); (703) 648-7199 (fax); or smbaloch@usgs.gov (email). Please Reference Information 1028-0090 in the subject line.

FOR FURTHER INFORMATION CONTACT: To request additional information please contact Charles Mandeville at (703) 648-4773 or by email at cmandeville@usgs.gov.

SUPPLEMENTARY INFORMATION:

I. Abstract

During FY13 and FY15, the Volcano Hazards Program (VHP) will provide funding for improvement of the volcano and other monitoring systems and other monitoring-related activities that contribute to mitigation of volcano hazards. This notice concerns the collection of information that is sufficient and relevant to evaluate and select proposals for funding under the VHP. We will accept proposals from State geological surveys and academic institutions requesting funds to assist in the monitoring of active volcanoes and to conduct volcano-related research. Financial assistance will be awarded on a competitive basis following the evaluation and ranking of State and academic proposals. VHP proposals will be reviewed by a peer panel of six (6) members. Five (5) members will be Department of the Interior representatives; and one (1) member will be an external representative. To submit a proposal, you must follow the written guideline (that will be made available at www.Grants.gov) and complete a project narrative. The application must be submitted via Grants.gov. Grant recipients must complete a final technical report at the end of the project period. Narrative and report guidance is available through http://volcanoes.usgs.gov/ and at www.Grants.gov.

II. Data

OMB Control Number: 1028-0090.

Title: Volcano Hazards Program (VHP).

Type of Request: Extension of currently approved collection.

Respondent Obligation: Required to receive benefits.

Frequency of Collection: Annually.

Description of Respondents: State Geological Surveys and academic institutions.

Estimated Number of Annual Responses: 20 applications and 12 final reports.

Estimated Annual Reporting and Recordkeeping “Hour” Burden: 796 hours. We expect to receive approximately 20 applications. It will take each applicant approximately 35 hours to complete the narrative and present supporting documents. This includes the time for project conception and development, proposal writing, reviewing, and submitting the proposal application through Grants.gov (totaling 700 burden hours). We anticipate awarding 12 grants per year. The award recipients must submit a final report at the end of the project. We estimate that it will take approximately 8 hours to complete the requirement for that report (totaling 96 hours).

Estimated Reporting and Recordkeeping “Non-Hour Cost” Burden: There are no “non-hour cost” burdens associated with this collection of information.

III. Request for Comments

Public Disclosure Statement: The PRA (44 U.S.C. 3501, et seq.) provides that an agency may not conduct or sponsor and you are not required to respond to a collection of information unless it displays a currently valid OMB control number.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology. Please note that the comments submitted in response to this notice are a matter of public record. Before including your address, phone number, email address, or other personal identifying information in your comment, you should be aware that your entire comment, including your personal identifying information, may be made publicly available at any time. While you can ask us in your comment to withhold your personal identifying information from public review, we cannot guarantee we will be able to do so.

Dated: March 1, 2013.
Charles Mandeville,
Program Coordinator for Volcano Hazards.

[FR Doc. 2013-05410 Filed 3-7-13; 8:45 am]

BILLING CODE 4311-AM-P